DEPARTMENT OF ENERGY

Federal Energy Regulatory Commission

Combined Notice of Filings #2

Take notice that the Commission received the following electric corporate filings:

Docket Numbers: EC13-120-000.

Applicants: ITC Midwest LLC.

Description: Application for Approval of Acquisition of Transmission Assets Pursuant to Section 203 of the Federal Power Act of ITC Midwest LLC.

Filed Date: 6/17/13.

Accession Number: 20130617-5184.

Comments Due: 5 p.m. ET 7/8/13.

Take notice that the Commission received the following electric rate filings:

Docket Numbers: ER10-1285-004.

Applicants: Craven County Wood Energy Limited Partnership.

Description: Notice of Non-Material Change in Status of Craven County Wood Energy Limited Partnership.

Filed Date: 6/17/13.

Accession Number: 20130617-5186.

Comments Due: 5 p.m. ET 7/8/13.

Docket Numbers: ER13-1718-000.

Applicants: Midcontinent Independent System Operator, Inc.

Description: Midcontinent Independent System Operator, Inc. submits 2013-06-17 Name Change Filing to be effective 6/1/2013.

Filed Date: 6/18/13.

Accession Number: 20130618-5000.

Comments Due: 5 p.m. ET 7/9/13.

Docket Numbers: ER13-1719-000.

Applicants: Southwest Power Pool, Inc.

Description: Southwest Power Pool, Inc. submits 2236R2 Golden Spread Electric Cooperative, Inc. NITSA and NOA to be effective 7/1/2011.

Filed Date: 6/18/13.

Accession Number: 20130618-5035.

Comments Due: 5 p.m. ET 7/9/13.

Docket Numbers: ER13-1720-000.

Applicants: Gray County Wind Energy, LLC.

Description: Gray County Wind Energy, LLC submits Gray County Wind Energy, LLC Amendment to MBR Tariff to be effective 7/23/2010.

Filed Date: 6/18/13.

Accession Number: 20130618-5037.

Comments Due: 5 p.m. ET 7/9/13.

Docket Numbers: ER13-1721-000.

Applicants: High Majestic Wind Energy Center, LLC.

Description: High Majestic Wind Energy Center, LLC submits High Majestic Wind Energy Center, LLC Amendment to MBR Tariff to be effective 7/26/2010.

Filed Date: 6/18/13.

Accession Number: 20130618-5038.

Comments Due: 5 p.m. ET 7/9/13.

Take notice that the Commission received the following electric securities filings:

Docket Numbers: ES13-30-000.

Applicants: MidAmerican Energy Company.

Description: Application for an Order Pursuant to Section 204 of the Federal Power Act for Authorization to Issue and Sell Debt Securities of MidAmerican Energy Company.

Filed Date: 6/17/13.

Accession Number: 20130617-5183.

Comments Due: 5 p.m. ET 7/8/13.

Docket Numbers: ES13-31-000.

Applicants: Golden Spread Electric Cooperative, Inc.

Description: Application of Golden Spread Electric Cooperative, Inc. for Authorization to Issue Securities Pursuant to Section 204 of the Federal Power Act.

Filed Date: 6/17/13.

Accession Number: 20130617-5188.

Comments Due: 5 p.m. ET 7/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2013.
Nathaniel J. Davis, Sr.,
Deputy Secretary.

[FR Doc. 2013-15390 Filed 6-26-13; 8:45 am]

BILLING CODE 6717-01-P